DEPARTMENT OF COMMERCE

National Oceanic and Atmospheric Administration

RIN 0648-XG920

North Pacific Fishery Management Council; Public Meeting

AGENCY: National Marine Fisheries Service (NMFS), National Oceanic and Atmospheric Administration (NOAA), Commerce.

ACTION: Notice of public workshop.

SUMMARY: The North Pacific Fishery Management Council (Council) Salmon Bycatch Workshop will meet April 15, 2019 through April 16, 2019.

DATES: The meeting will be held on Monday, April 15, 2019, from 8:30 a.m. to 5 p.m. and Tuesday, April 16, 2019, from 8 a.m. to 12 p.m., Pacific Standard Time.

ADDRESSES: The meeting will be held in the Traynor Room, Building 4 at the Alaska Fisheries Science Center, 7600 Sand Point Way NE, Seattle, WA 98115.

Council address: North Pacific Fishery Management Council, 605 W 4th Ave., Suite 306, Anchorage, AK 99501-2252; telephone: (907) 271-2809.

FOR FURTHER INFORMATION CONTACT: Diana Stram, Council staff; telephone: (907) 271-2806.

SUPPLEMENTARY INFORMATION:

Agenda

Monday, April 15, 2019 to Tuesday, April 16, 2019

The agenda will include a review and discussion of existing salmon bycatch genetics evaluations and discussion of and plan for proposed improvements to facilitate better use of information by stakeholders for bycatch avoidance. The Agenda is subject to change, and the latest version will be posted at https://meetings.npfmc.org/Meeting/Details/603 prior to the meeting, along with meeting materials.

Public Comment

Public comment letters will be accepted and should be submitted either electronically to https://meetings.npfmc.org/Meeting/Details/603 or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: March 27, 2019.
Rey Israel Marquez,
Acting Deputy Director, Office of Sustainable Fisheries, National Marine Fisheries Service.

[FR Doc. 2019-06315 Filed 4-1-19; 8:45 am]

BILLING CODE 3510-22-P